DEPARTMENT OF STATE

[Public Notice: 10666]

Notice of Intent To Re-Establish a Federal Advisory Committee

AGENCY: Department of State.

ACTION: Notice of Intent To Re-Establish the Shipping Coordinating Committee.

Under the provisions of Public Law 92-463, Federal Advisory Committee Act, notice is hereby given that the Department intends to re-establish the Shipping Coordinating Committee. The Department affirms that this advisory committee is necessary and in the public interest.

Good cause: This Committee's charter expired on January 27, 2019. The Department was unable to renew the Committee's charter prior to the expiration date due to the recent lapse in federal government appropriations. Notices of re-establishment must appear in the Federal Register at least 15 calendar days before a charter is filed unless the Secretariat approves a shorter timeframe for good cause (41 CFR 102-3.65(b)). The Department has requested, and the Secretariat has approved, publication of this notice concurrent with the filing of the charter due to the lapse in appropriations.

Nature and Purpose: The Committee was initially established in 1958 to provide a forum for interested members of government and the public-private citizens, members of the maritime shipping industry, non-governmental organizations, small businesses, environmental organizations, and labor groups to participate in discussions about shipping initiatives to be considered by the International Maritime Organization (IMO). The United States government, through the Committee, solicits the views of interested members of the public on a wide range of technical issues connected with international shipping safety, security, and environmental protection. Generally, meetings are convened prior to meetings of the IMO and other international meetings as necessary to discuss and make recommendations to the Secretary of State and to guide the U.S. delegations. Any determinations of action to be taken as a result of the work of the Committee shall be made by the Chairman or other appropriate full-time salaried United States government officials.

For further information about this advisory committee, please contact: Lieutenant Commander Joel C. Coito, Executive Secretary, Shipping Coordinating Committee, U.S. Department of State, Office of Ocean and Polar Affairs, at coitojc@state.gov or by telephone at (202) 647-3946.

Joel C. Coito,
Executive Secretary, Shipping Coordinating Committee, U.S. Department of State.

[FR Doc. 2019-01199 Filed 2-5-19; 8:45 am]

BILLING CODE 4710-09-P